ENVIRONMENTAL PROTECTION AGENCY

[EPA-HQ-OPPT-2015-0805; FRL-9945-92]

Chemical Safety Advisory Committee; Notice of Changes to Public Meeting on 1-bromopropane

AGENCY: Environmental Protection Agency (EPA).

ACTION: Notice.

SUMMARY: The previously announced 3-day meeting of the Chemical Safety Advisory Committee (CSAC) to consider and review the draft risk assessment for the Toxic Substance Control Act (TSCA) work plan chemical 1-bromopropane (CASRN-106-94-5) is now scheduled for 2 days. Meeting dates and location are provided in this notice and meeting information is now available through the CSAC Web site at https://www.epa.gov/csac.

DATES: The meeting will be held on May 24 and 25, 2016, from approximately 9:00 a.m. to 5:00 p.m.

Webcast. Please refer to the CSAC Web site at https://www.epa.gov/csac for information on how to access the meeting webcast. Please note that the webcast is a supplementary public process provided only for convenience. If difficulties arise resulting in webcasting outages, the meeting will continue as planned.

Special accommodations. For information on access or services for individuals with disabilities, and to request accommodation of a disability, please contact the DFO listed under FOR FURTHER INFORMATION CONTACT at least 10 days prior to the meeting to give EPA as much time as possible to process your request.

ADDRESSES: Meeting: The meeting will be held at the Crystal City Marriott, 1999 Jefferson Davis Highway, Arlington, VA 22202. The telephone number for the hotel is (703) 413-5500.

FOR FURTHER INFORMATION CONTACT: Steven M. Knott, DFO, Office of Science Coordination and Policy (7201M), Environmental Protection Agency, 1200 Pennsylvania Ave. NW., Washington, DC 20460-0001; telephone number: (202) 564-0103; email address: knott.steven@epa.gov.

SUPPLEMENTARY INFORMATION: For additional information and instructions, please see the Federal Register of March 16, 2016, (8 FR 14111; FRL-9940-22), or contact the Designated Federal Official (DFO) listed under FOR FURTHER INFORMATION CONTACT.

Authority: 5 U.S.C. App. 2 § 9(c).

Dated: April 28, 2016.
Inza Graves,
Acting, Director, Office of Science Coordination and Policy.

[FR Doc. 2016-10583 Filed 5-4-16; 8:45 am]

BILLING CODE 6560-50-P